ENVIRONMENTAL PROTECTION AGENCY

40 CFR Part 52

[RME-OAR-2005-MD-0002; FRL-7904-2]

Approval and Promulgation of Air Quality Implementation Plans; Maryland; Clarification of Visible Emissions Exception Provisions

AGENCY: Environmental Protection Agency (EPA).

ACTION: Direct final rule.

SUMMARY: EPA is taking direct final action to approve revisions to the Maryland State Implementation Plan (SIP). The revision consists of clarifications to the exception provisions of the Maryland visible emissions regulations. EPA is approving these revisions to the Maryland regulations in accordance with the requirements of the Clean Air Act.

DATES: This rule is effective on June 27, 2005 without further notice, unless EPA receives adverse written comment by May 26, 2005. If EPA receives such comments, it will publish a timely withdrawal of the direct final rule in the Federal Register and inform the public that the rule will not take effect.

ADDRESSES: Submit your comments, identified by Regional Material in EDocket (RME) ID Number RME-OAR-2005-MD-0002 by one of the following methods:

A. Federal eRulemaking Portal: http://www.regulations.gov. Follow the on-line instructions for submitting comments.

B. Agency Web Site: http://www.docket.epa.gov/rmepub/ RME, EPA's electronic public docket and comment system, is EPA's preferred method for receiving comments. Follow the on-line instructions for submitting comments.

C. E-mail: morris.makeba@epa.gov.

D. Mail: RME-OAR-2005-MD-0002, Makeba Morris, Chief, Air Quality Planning Branch, Mailcode 3AP21, U.S. Environmental Protection Agency, Region III, 1650 Arch Street, Philadelphia, Pennsylvania 19103.

E. Hand Delivery: At the previously-listed EPA Region III address. Such deliveries are only accepted during the Docket's normal hours of operation, and special arrangements should be made for deliveries of boxed information.

Instructions: Direct your comments to RME ID No. RME-OAR-2005-MD-0002. EPA's policy is that all comments received will be included in the public docket without change, and may be made available online at http://www.docket.epa.gov/rmepub/, including any personal information provided, unless the comment includes information claimed to be Confidential Business Information (CBI) or other information whose disclosure is restricted by statute. Do not submit information that you consider to be CBI or otherwise protected through RME, regulations.gov or e-mail. The EPA RME and the Federal regulations.gov Web sites are an “anonymous access” system, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://www.docket.epa.gov/rmepub/. Although listed in the index, some information is not publicly available, i.e., CBI or other information whose disclosure is restricted by statute. Certain other material, such as copyrighted material, is not placed on the Internet and will be publicly available only in hard copy form. Publicly available docket materials are available either electronically in RME or in hard copy during normal business hours at the Air Protection Division, U.S. Environmental Protection Agency, Region III, 1650 Arch Street, Philadelphia, Pennsylvania 19103. Copies of material to be incorporated by reference are available at the Air and Radiation Docket and Information Center, U.S. Environmental Protection Agency, 1301 Constitution Avenue, NW., Room B108, Washington, DC 20460. Copies of the State submittal are available at the Maryland Department of the Environment, 1800 Washington Boulevard, Suite 705, Baltimore, Maryland 21230.

FOR FURTHER INFORMATION CONTACT: Linda Miller, (215) 814-2068, or by e-mail at miller.linda@epa.gov.

SUPPLEMENTARY INFORMATION:

I. Background

The Maryland Department of the Environment (MDE) submitted a revision to the State Implementation Plan (SIP) on December 1, 2003. The revision consists of clarifications to the general visible emissions (VE) regulations and those related to specific source categories. The regulations affected by these revisions are found in Code of Maryland Regulations—COMAR 26.11.06 General Emission Standards, Prohibitions and Restrictions; COMAR 26.11.08 Control of Incinerators; COMAR 26.11.09 Control of Fuel Burning Equipment Stationary Internal Combustion Engines and Certain Fuel Burning Installations; and COMAR 26.11.10 Control of Iron and Steel Production Installations. Each of these regulations has previously been incorporated into the Maryland State Implementation Plan.

II. Summary of SIP Revision

This revision clarifies the intent of the VE exceptions provisions in the Maryland regulation as they relate generally and to specific source categories. The revised language will ensure that sources correctly interpret the exception provisions. The purpose of the existing regulation, which is presently included in the SIP, is to allow for a 6-minute per hour exclusion during certain activities such as load changes, adjustments and soot-blowing of boilers. The revised regulations clarify that this exception should not be applied for every hour of operation, but only during the hour in which the activity mentioned above occurs. In addition, the revised language clarifies that only periods of visible emissions less than 40 percent may qualify for the exception and that the 6-minute period is any consecutive 6-minute period during the hour in which the VE is recorded. The revisions include the addition this clarifying language to:

1. COMAR 26.11.06.02 Control of Visible emissions in the General Emission Standards.

2. COMAR 26.11.08.04 Control Visible emissions for Incinerators.

3. COMAR 26.11.09.05 Control of Visible Emissions for fuel burning equipment.

4. COMAR 26.11.10.03 Control of Visible emissions for Iron and Steel Production Installations.

III. Final Action

EPA is approving revisions the Maryland VE exceptions provisions. EPA is publishing this rule without prior proposal because the Agency views this as a noncontroversial amendment and anticipates no adverse comment. This revision is a clarification to an existing requirement. However, in the “Proposed Rules” section of today's Federal Register, EPA is publishing a separate document that will serve as the proposal to approve the SIP revision if adverse comments are filed. This rule will be effective on June 27, 2005 without further notice unless EPA receives adverse comment by May 26, 2005. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule to approve clarifications to the visible emissions exception language is not a “major rule” as defined by 5 U.S.C. 804(2).

C. Petitions for Judicial Review

Under section 307(b)(1) of the Clean Air Act, petitions for judicial review of this action must be filed in the United States Court of Appeals for the appropriate circuit by June 27, 2005. Filing a petition for reconsideration by the Administrator of this final rule does not affect the finality of this rule for the purposes of judicial review nor does it extend the time within which a petition for judicial review may be filed, and shall not postpone the effectiveness of such rule or action. This action, to approve revisions to the Maryland regulations which clarify the visible emissions exception provisions, may not be challenged later in proceedings to enforce its requirements. (See section 307(b)(2).)

List of Subjects in 40 CFR Part 52

Environmental protection, Air pollution control, Particulate matter, Reporting and recordkeeping requirements.

Dated: April 19, 2005.
Richard J. Kampf,
Acting Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by revising the entries for COMAR 26.11.06.02, 10.18.08 (Title), 10.18.08.04, 26.11.09.05, and 26.11.10.03 to read as follows:

§ 52.1070 Identification of plan.

* * * * *

(c) EPA approved regulations.

EPA-Approved Regulations in the Maryland SIP
Code of Maryland administrative regulations (COMAR) citation | Title/subject | State effective date | EPA approval date | Additional explanation/citation at 40 CFR 52.1100
* * * * * * *
26.11.06 | General Emission Standards, Prohibitions, and Restrictions
* * * * * * *
26.11.06.02 [Except: .02A(1)(e), (1)(g), (1)(h), (1)(i)] | Visible Emissions | 11/24/03 | 4/26/05 [Insert page number where the document begins] | Revised paragraph 26.11.02.02A(2).
* * * * * * *
10.18.08/26.11.08 | Control of Incinerators
* * * * * * *
10.18.08.04/26.11.08.04 | Visible Emissions | 11/24/03 | 4/26/05 [Insert page number where the document begins] | Revised COMAR citation; revised paragraph 26.11.08.04C.
* * * * * * *
26.11.09 | Control of Fuel-Burning Equipment, Stationary Internal Combustion Engines, and Certain Fuel-Burning Installations
* * * * * * *
26.11.09.05 | Visible Emissions | 11/24/03 | 4/26/05 [Insert page number where the document begins] | Revised paragraph 26.11.09.05A(3).
* * * * * * *
26.11.10 | Control of Iron and Steel Production Installations
* * * * * * *
26.11.10.03 | Visible Emissions | 11/24/03 | 4/26/05 [Insert page number where the document begins] | Revised paragraph 26.11.10.03A(2)
* * * * * * *

[FR Doc. 05-8317 Filed 4-25-05; 8:45 am]

BILLING CODE 6560-50-P